NUCLEAR REGULATORY COMMISSION

[Docket No. 50-313]

Entergy Operations, Inc.; Notice of Withdrawal of Application for Amendment to Facility Operating License

The U.S. Nuclear Regulatory Commission (the Commission) has granted the request of Entergy Operations, Inc., (the licensee) to withdraw its April 2, 2003, application as supplemented by letters dated November 21 and December 31, 2003, for proposed amendment to Renewed Facility Operating License No. DPR-51 for the Arkansas Nuclear One, Unit No. 1, located in Pope County, Arkansas.

The proposed amendment would have revised the technical specifications pertaining to the fuel enrichment, the spent fuel pool (SFP) boron concentration and criticality analysis, the SFP regions (including the use of Metamic poison panels in a portion of the SFP) and loading restrictions, and the loading patterns in the new fuel storage racks.

The Commission had previously issued a Notice of Consideration of Issuance of Amendment published in the Federal Register on May 13, 2003 (68 FR 25651). However, by letter dated June 24, 2004, the licensee withdrew the proposed change.

For further details with respect to this action, see the application for amendment dated April 2, 2003, as supplemented by letters dated November 21 and December 31, 2003, and the licensee's letter dated June 24, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 19th day of August 2004.
For the Nuclear Regulatory Commission.
Thomas W. Alexion,
Project Manager, Section 1, Project Directorate IV, Division of Licensing Project Management, Office of Nuclear Reactor Regulation.

[FR Doc. 04-19506 Filed 8-25-04; 8:45 am]

BILLING CODE 7590-01-P